Title 3—

The President

Memorandum of June 4, 2021

2020 Unified Command Plan

Memorandum for the Secretary of Defense

Pursuant to my authority as Commander in Chief, I hereby rescind direction dated January 13, 2021, to the Department of Defense to begin drafting Change 1 to the 2020 Unified Command Plan to reassign the responsibility for Greenland from United States European Command to United States Northern Command.

Consistent with title 10, United States Code, section 161(b)(2) and title 3, United States Code, section 301, you are directed to notify the Congress on my behalf.

You are authorized and directed to publish this memorandum in the Federal Register.

THE WHITE HOUSE,

Washington, June 4, 2021

[FR Doc. 2021-12221

Filed 6-8-21; 8:45 am]

Billing code 5001-06-P